DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 95 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to, or greater than, the level that would be achieved absent such an exemption.” The procedures for requesting an exemption are set forth in 49 CFR part 381.

Accordingly, FMCSA evaluated 95 individual exemption requests on their merit and made a determination that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denial.

The following 17 applicants lacked sufficient driving experience during the 3-year period prior to the date of their application: Harlan D. Glaser, George Klopf, Luke R. Lafley, Brian K. La Joie, John L. Langill, Gregg A. Lindberg, John R. Phillips, Joseph A. Ragan, Mark C. Reineke, David J. Schie, David M. Sims, Roland D. Spaniol, Kevin Stein, Richard J. Tomerlin, Thomas L. Tveit, Robert Vanprooyen, Ronald C. Wolfe.

The following 10 applicants had no experience operating a CMV: Kerry V. Ashby, Mickel Brisco, Kevin F. Clark, Ronald Cotton, Alvin T. Graham, Timothy Inman, Yuriy N. Krisihtal, Maria A. Santander, Don L. Steele, Moises L. Vidal.

The following 16 applicants did not have 3 years of experience driving a CMV on public highways with the vision deficiency: Roger D. Alig, Robert Barrozo, Philip M. Casady, Lynn C. Cebular, Kenneth E. Clark, Lucious Green, James Layfield, Dana O. Lundgren, Raymond Meza, Robert L. Moore, Charles Noll, George H. Southland, Herman D. Snoddy, Timothy E. Stevens, Leon Tanksley, George White.

The following 11 applicants did not have 3 years of recent experience driving a CMV with the vision deficiency: Christopher D. Black, Kevin S. Carter, Karen R. Clark, Meregildo De Leon, Louis R. Edwards, Jr., George C. Jensen, Jesus A. Leon, Dan E. Repogle, Robert W. Sikkila, Kenneth J. Stubbs, Dennis Walowsky.

The following 19 applicants did not have sufficient driving experience during the past 3 years under normal highway operating conditions: James H. Bailey, Johnny J. Campbell, Malcolm J. Celestine, Dale G. Darling, Keith E. Fimon, Raleigh K. Franklin, John E. Gannon, Clarence Hall, Charles R. Hoeppner, Emit Holmes, Levi Kallberg, Robert Key, Christopher D. Linden, Patrick W. Merkel, Gene M. Morris, James L. Putnam, Jr., Donald W. Rich, Rickey E. Rumfield, Gary A. Webb.

One applicant, Eldred L. Lieser, had more than 2 commercial motor vehicle violations during the 3-year review period and/or application process. Each applicant is only allowed 2 moving citations.

Two applicants, Bobby Clark and Charles West, had commercial driver's license suspensions during the 3-year review period for moving violations. Applicants do not qualify for an exemption with a suspension during the 3-year period.

One applicant, Sam E. Goode, did not have an Optometrist/Ophthalmologist willing to state that he is able to operate a commercial vehicle safely with his vision deficiency.

The following 5 applicants were denied for miscellaneous/multiple reasons: Michael A. Georgeff, Joseph Revis, Jr., Lawrence C. Smoak, III, David C. Watson, Paula L. Wharton.

One applicant, Pradeep Singh, was disqualified because his vision deficiency was not stable for the entire 3-year review period.

The following 3 applicants never submitted the required documents: Kenneth A. Adams, Jack Bickley, Brian S. Sikes.

The following 8 applicants met the current federal vision standards. Exemptions are not required for these applicants that meet the current regulations for vision: Terry Appleton, Bernard Braddock, Frederick Bundick, David L. Couch, Douglas A. Jackson, Lee Rapaport, Thomas R. Spicer, Ray A. Thombs, Jr.

Finally, one applicant, Commie Futrell, Jr., was issued a medical certificate for 3 months. Applicants with a medical certificate valid for less than 6 months do not meet the exemption program eligibility criteria.

Issued on: April 19, 2010.
Larry W. Minor,
Associate Administrator for Policy and Program Development.

[FR Doc. 2010-9667 Filed 4-26-10; 8:45 am]

BILLING CODE 4910-EX-P